ENVIRONMENTAL PROTECTION AGENCY

40 CFR Part 81

Designation of Areas for Air Quality Planning Purposes

CFR Correction

In Title 40 of the Code of Federal Regulations, Parts 81 to 84, revised as of July 1, 2014, on page 150, in § 81.305, in the table entitled “California—NO2 (2010 1-Hour Standard)”, for the entry “Sacramento County”, the date in the second column is removed and the entry in the third column is corrected to read “Unclassifiable/Attainment”.

[FR Doc. 2015-15482 Filed 6-23-15; 8:45 am]

BILLING CODE 1501-05-D